OFFICE OF SCIENCE AND TECHNOLOGY POLICY

Guidelines for Ensuring and Maximizing the Quality, Objectivity, Utility, and Integrity of Information Disseminated by the Office of Science and Technology Policy

AGENCY: Office of Science and Technology Policy.

ACTION: Notice of guidelines and request for comments.

SUMMARY: The Office of Science and Technology Policy (OSTP) is seeking comments on its draft Information Quality Guidelines. These Information Quality Guidelines describe OSTP's pre-dissemination information quality control and an administrative mechanism for requests for correction of information publicly disseminated by OSTP. The draft Information Quality Guidelines are posted on OSTP's Web site, http://www.ostp.gov.

DATES: Written comments regarding OSTP's draft Information Quality Guidelines are due by June 14, 2002.

ADDRESSES: Please submit comments to Stan Sokul, Office of Science and Technology Policy, Washington, DC 20502 by fax at (202) 456-6021. Comments can also be e-mailed to ostpinfo@ostp.eop.gov.

FOR FURTHER INFORMATION CONTACT: Stan Sokul, Office of Science and Technology Policy, Washington, DC 20502. Telephone: (202) 456-7116.

Dated: May 1, 2002.
Barbara Ann Ferguson,
Assistant Director for Budget and Administration, Office of Science and Technology Policy.

[FR Doc. 02-11568 Filed 5-8-02; 8:45 am]

BILLING CODE 3170-01-P